DEPARTMENT OF JUSTICE

Drug Enforcement Administration

[Docket No. 05-5]

James Marvin Goodrich, M.D. Revocation of Registration

On October 24, 2004, the Deputy Assistant Administrator, Office of Diversion Control, Drug Enforcement Administration (DEA), issued an Order to Show Cause to James Marvin Goodrich, M.D. (Dr. Goodrich) of Springfield, Illinois, notifying him of an opportunity to show cause as to why DEA should not revoke his DEA Certificate of Registration, BG0644244, as a practitioner, pursuant to 21 U.S.C. 824(a)(3) and (a)(4) and deny any pending applications for renewal or modification of that registration pursuant to 21 U.S.C. 823(f). As a basis for revocation, the Order to Show Cause alleged, in part, that Dr. Goodrich's Illinois state license to handle controlled substances had expired and accordingly, he was not authorized to handle controlled substances in Illinois, the state in which he is registered.

On November 8, 2004, Dr. Goodrich, through counsel, timely requested a hearing in this matter. On November 15, 2004, Administrative Law Judge Gail A. Randall (Judge Randall) issued the Government, as well as Dr. Goodrich, an Order for Prehearing Statements.

In lieu of filing a prehearing statement, the Government filed a Motion for Summary Disposition, asserting that Dr. Goodrich's Illinois controlled substance license had expired without being renewed and he was without authorization to handle controlled substances in that State. As a result, the Government argued that further proceedings in the matter were not required. Attached to the Government's motion was a copy of a Certification of Licensure, issued on November 18, 2004, by the Illinois Department of Financial and Professional Regulation, Division of Professional Regulation. That document showed Dr. Goodrich's Licensed Physician Controlled Substances, License No. 336054605, had expired on July 31, 2002, without being renewed.

On November 30, 2004, Judge Randall issue an Order and Notice providing Dr. Goodrich an opportunity to respond to the Government's motion. On December 21, 2004, counsel for Dr. Goodrich filed a response in which he acknowledged Respondent was without authority to handle controlled substances in Illinois as a result of the failure to renew his state controlled sustance license. Counsel further stated they would not object to disposition based on that ground.

December 29, 2004, Judge Randall issued her Opinion and Recommended Decision of the Administrative Law Judge (Opinion and Recommended Decision). As part of her recommended ruling, Judge Randall granted the Government's Motion for Summary Disposition, finding Dr. Goodrich lacked authorization to handle controlled substances in Illinois, the jurisdiction in which he is registered. Judge Randall recommended that Dr. Goodrich's DEA registration be revoked on the basis that he lacks state authority to handle controlled substances.

No exceptions were filed by either party to the Opinion and Recommended Decision and on February 2, 2005, the record of these proceedings was transmitted to the Office of the DEA Deputy Administrator.

The Deputy Administrator has considered the record in its entirety and pursuant to 21 CFR 1316.67, hereby issues her final order based upon findings of fact and conclusions of law as hereinafter set forth. The Deputy Administrator adopts, in full, the Opinion and Recommended Decision of the Administrative Law Judge.

The Deputy Administrator finds that Dr. Goodrich holds DEA Certificate of Registration, BG0644244, as a practitioner. The Deputy Administrator further finds that Dr. Goodrich's Illinois controlled substance license expired on July 31, 2002, and there is no evidence in the record indicating it has been renewed or reinstated. Therefore, the Deputy Administrator finds Dr. Goodrich is currently not licensed to handle controlled substances in that State.

DEA does not have statutory authority under the Controlled Substances Act to issue or maintain a registration if the applicant or registrant is without state authority to handle controlled substances in the state in which he conducts business. See 21 U.S.C. 802(21), 823(f) and 824(a)(3). This prerequisite has been consistently upheld. See Kanwaljit S. Serai, M.D., 68 FR 48,943 (2003); Dominick a Ricci, M.D., 58 FR 51,104 (1993); Bobby Watts, M.D., 53 FR 11,919 (1988).

Here, it is clear Dr. Goodrich is not currently licensed to handle controlled substances in Illinois, where he is registered with DEA. Therefore, he is not entitled to maintain that registration. Because Dr. Goodrich is not entitled to a DEA registration in Illinois due to lack of state authorization to handle controlled substances, the Deputy Administrator concludes it is unnecessary to address whether Dr. Goodrich's registration should be revoked based upon the remaining public interest grounds asserted in the Order to Show Cause. See Fereida Walker-Graham, M.D., 68 FR 24,761 (2003); Nathaniel-Aikens-Afful, M.D., 62 FR 16,871 (1997); Sam F. Moore, D.V.M., 58 FR 14,428 (1993).

Accordingly, the Deputy Administrator of the Drug Enforcement Administration, pursuant to the authority vested in her by 21 U.S.C. 823 and 824 and 28 CFR 0.100(b) and 0.104, hereby orders that DEA Certificte of Registration, BG0644244, issued to James Marvin Goodrich, M.D., be, and it hereby is, revoked. The Deputy Administrator further orders that any pending applications for renewal or modification of such registration be, and they hereby are, denied. This order is effective June 9, 2005.

Dated: May 2, 2005.
Michele M. Leonhart,
Deputy Administrator.

[FR Doc. 05-9250 Filed 5-9-05; 8:45 am]

BILLING CODE 4410-09-M